DEPARTMENT OF THE TREASURY

Submission for OMB Review; Comment Request

November 14, 2012.

The Department of the Treasury will submit the following information collection request to the Office of Management and Budget (OMB) for review and clearance in accordance with the Paperwork Reduction Act of 1995, Public Law 104-13, on or after the date of publication of this notice.

DATES: Comments should be received on or before December 20, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

SUPPLEMENTARY INFORMATION: Title: Generic Clearances for Meaningful Access Information Collections.

OMB Control Number: NEW.

Abstract: A court order was issued in American Council of the Blind v. Paulson, 591 F. Supp. 2d 1 (D.D.C. 2008) (“ACB v. Paulson”) requiring the Department of the Treasury and BEP to “provide meaningful access to United States currency for blind and other visually impaired persons, which steps shall be completed, in connection with each denomination of currency, not later than the date when a redesign of that denomination is next approved by the Secretary of the Treasury * * *.”

In compliance with the court's order, BEP intends to meet individually with blind and visually impaired persons and request their feedback about tactile features that BEP is considering for possible incorporation into the next U.S. paper currency redesign. BEP employees will attend national conventions and conferences for disabled persons. At those gatherings, BEP employees will invite blind and visually impaired persons to provide feedback about certain tactile features being considered for inclusion in future United States currency paper designs.

The BEP also intends to contract with specialists in the field of visual acuity to develop methodologies for conducting scientific tests. Using those methodologies, the BEP or its contracted specialists will conduct acuity testing with select groups of blind and visually impaired volunteers. The acuity tests will help either confirm or provide other perspectives on the results of BEP's information collections at national conferences and conventions. The acuity tests will also help ground bases for which BEP determines the tactile feature to be incorporated into the next United States paper currency design.

The BEP's information collection activities at national conferences will use identical methodologies or otherwise share a common element. Similarly, the BEP's scientific studies will use very similar methodologies or share a common element. Thus the BEP, in order to comply with the court's order in ACB v. Paulson requests OMB approval for two generic clearances to conduct various information collection activities. Over the next three years, the BEP anticipates undertaking a variety of new information collection activities related to BEP's efforts to provide meaningful access to U.S. paper currency for blind and visually impaired persons. Following standard OMB requirements, for each information collection that BEP proposes to undertake under each of these generic clearances, the OMB will be notified at least two weeks in advance and provided with a copy of the information collection instrument along with supportive materials. The BEP will only undertake a new collection if the OMB does not object to the BEP's proposal.

Type of Review: New Collection.

Affected Public: Individuals, Organizations.

Respondent's Obligation: Voluntary.

Estimated Number of Respondents: Approximately 500 per year. The BEP will conduct the majority of its information collection activities at conferences and conventions of organizations of blind and visually impaired persons. The BEP is able to estimate the number of attendees at such conferences and meetings based on historical data. The BEP, however, only collects information from volunteers who stop by its information booth, and who care to take the time responding to questions. It is difficult, therefore, to estimate the actual number of respondents from whom BEP may be able to collect information in a year. The BEP's scientific studies may include more focused sample sizes, comprised of persons volunteering to participate in the studies.

Estimated Average Time per Respondent: 30 minutes per response.

Estimated Total Annual Burden Hours: Approximately 250 burden hours.

Request for Comments: Comments submitted in response to this notice will be summarized and/or included in the request for Office of Management and Budget approval. All comments will become a matter of public record. The public is invited to submit written comments concerning: (a) Whether the collection of information is necessary for the proper performance of the functions of the Bureau, including whether the information will have practical uses; (b) the accuracy of the above estimate of the burden of the proposed information collection; (c) ways to enhance the quality, usefulness, and clarity of the information to be collected; and (d) ways to minimize the reporting burdens on respondents, including the use of automated collection techniques or other forms of information technology.

Treasury Department PRA Clearance Officer: Robert Dahl, Department of the Treasury, Room 11000, 1750 Pennsylvania Avenue NW., Washington, DC 20220.

BEP Contact: Sonya White, Deputy Chief Counsel, United States Department of the Treasury, Bureau of Engraving and Printing, Room 419-A, 14th and C Streets SW., Washington, DC 20228.

Robert Dahl,
Treasury Department PRA Clearance Officer.

[FR Doc. 2012-28112 Filed 11-19-12; 8:45 am]

BILLING CODE 4810-25-P